ENVIRONMENTAL PROTECTION AGENCY

[FRL-9459-6]

Two Proposed CERCLA Administrative Settlement Agreements for Long-Term Access at the Bountiful/Woods Cross 5th South PCE Plume NPL Site, Davis County, UT

AGENCY: Environmental Protection Agency.

ACTION: Notice; Request for public comment.

SUMMARY: In accordance with section 122(h)(1) of the Comprehensive Environmental Response, Compensation, and Liability Act, as amended (CERCLA), 42 U.S.C. 9622(h)(1), notice is hereby given of two proposed Administrative Settlement Agreements for long-term access at the Bountiful/Woods Cross 5th South PCE Plume Site. The PCE plume extends in area through the Cities of Bountiful, West Bountiful and Woods Cross in Davis County, Utah. The proposed Settlement Agreements are with Davis County and Security Investment Ltd. (hereinafter jointly referred to as “settling parties”). The Settlement Agreements require the settling parties to provide the U.S. Environmental Protection Agency (EPA) and the Utah Department of Environmental Quality with long-term access (estimated to be approximately 60 years) for the construction, operation and maintenance of the PCE plume pump and treat infrastructure. In exchange, the settling parties' potential CERCLA civil liability at their respective properties will be resolved. The Settlement Agreements include an EPA covenant not to sue the settling parties pursuant to sections 106 and 107 of CERCLA, 42 U.S.C. 9606 and 9607. For thirty (30) days following the date of publication of this notice, the United States will receive written comments relating to either or both of the Settlement Agreements. The United States will consider all comments received and may modify or withdraw its consent to the Settlement Agreements if comments received disclose facts or considerations which indicate that the Settlement Agreements are inappropriate, improper, or inadequate. The United States' response to any comments received will be available for public inspection at the Davis County Library, South Branch, 725 South Main Street, in Bountiful, UT 84010-6326. (801) 294-4054.

DATES: Comments must be submitted on or before October 6, 2011.

ADDRESSES: The proposed Settlement Agreements are also available for public inspection at the EPA Region 8 Records Center located on the second floor at 1595 Wynkoop Street, in Denver, Colorado, during normal business hours. A copy of the proposed settlement(s) may be obtained from Carol Pokorny, Enforcement Specialist, U.S. EPA, 1595 Wynkoop Street, Denver, Colorado 80202-1129. Ms. Pokorny can be reached at (303) 312-6970. Comments should reference the Bountiful/Woods Cross 5th South PCE Plume NPL Site, the EPA Docket No. CERCLA-08-2011-015 and EPA Docket No. CERCLA-08-2011-016, and should be addressed to Ms. Pokorny at the address given above.

FOR FURTHER INFORMATION CONTACT: Carol Pokorny, USEPA, Technical Enforcement Program, 1595 Wynkoop Street, Denver, Colorado 80202-1129. Telephone: (303) 312-6970.

Dated: August 26, 2011.
Andrew M. Gaydosh,
Assistant Regional Administrator, U.S. Environmental Protection Agency, Region 8.

[FR Doc. 2011-22672 Filed 9-2-11; 8:45 am]

BILLING CODE 6560-50-P